DEPARTMENT OF HEALTH AND HUMAN SERVICES

Office of the Secretary

Office of the Assistant Secretary for Planning and Evaluation; Technical Review Panel on the Medicare Trustees Reports

AGENCY: Department of Health and Human Services, Office of the Assistant Secretary for Planning and Evaluation.

ACTION: Notice; correction.

SUMMARY: This document corrects the fax number and adds an e-mail address for Marian Robinson found in the Federal Register (FR) on July 30, 2010, entitled “Technical Review Panel on the Medicare Trustees Reports”. The FR notice should have the corrected fax number of 202-260-2524 and should include the e-mail address for Marian Robinson (marian.robinson@hhs.gov).

Applicability Date: The corrections in this notice are applicable on and after August 2, 2010.

Dated: July 30, 2010.
Sherry Glied,
Assistant Secretary for Planning and Evaluation.

[FR Doc. 2010-19211 Filed 8-2-10; 4:15 pm]

BILLING CODE 4151-05-P